COMMITTEE FOR PURCHASE FROM PEOPLE WHO ARE BLIND OR SEVERELY DISABLED

Procurement List; Additions and Deletions

AGENCY: Committee for Purchase from People Who Are Blind or Severely Disabled.

ACTION: Additions to and Deletions from Procurement List.

SUMMARY: This action adds to the Procurement List a product and services to be furnished by nonprofit agencies employing persons who are blind or have other severe disabilities, and deletes from the Procurement List products and a service previously furnished by such agencies.

DATES: Effective Date: May 7, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On February 3, and February 10, 2006, the Committee for Purchase From People Who Are Blind or Severely Disabled published notice (71 FR 5809, and 7007) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Grommet, Rotating Band.

NSN: 8140-01-051-9953—6.95″ DIA, 2.585″ L.

NPA: L.C. Industries For The Blind, Inc., Durham, North Carolina.

Contracting Activity: U.S. Army Field Support Command, Rock Island, Illinois.

Services

Service Type/Location: Document Destruction, USDA, Animal and Plant Health Inspection Service, Food Safety Inspection Service, 100 North Sixth Street Butler Square West 5th Floor, Minneapolis, Minnesota.

NPA: AccessAbility, Inc., Minneapolis, Minnesota.

Contracting Activity: USDA, Animal & Plant Health Inspection Service, Minneapolis, MN.

Service Type/Location: Food Service Attendant, Connecticut Air National Guard, Building 20, 206 Boston Post Road, Orange, Connecticut.

NPA: CW Resources, Inc., New Britain, Connecticut.

Contracting Activity: Connecticut Air National Guard, 103d Fighter Wing, East Granby, CT.

Deletions

On February 10, 2006, the Committee for Purchase From People Who Are Blind or Severely Disabled published notice (71 FR 7007) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Product/NSN: Binder, Loose-leaf.

NSN: 7510-00-965-2442—Binder, Loose-leaf.

NPA: ForSight Vision, York, Pennsylvania.

Contracting Activity: Office Supplies & Paper Products Acquisition Center, New York, NY.

Product/NSN: Cross “Solo” Pen and Refill.

NSN: 7520-01-424-4846—Cross “Solo” Pen and Refill.

NSN: 7520-01-424-4881—Cross “Solo” Pen and Refill.

NSN: 7520-01-424-4871—Cross “Solo” Pen and Refill.

NSN: 7520-01-424-4860—Cross “Solo” Pen and Refill.

NSN: 7520-01-424-4848—Cross “Solo” Pen and Refill.

NPA: In-Sight, Warwick, Rhode Island.

Contracting Activity: Office Supplies & Paper Products Acquisition Center, New York, NY.

Product/NSN: Flu Detection Kit.

NSN: 6550-00-NIB-0001—Flu Detection Kit.

NSN: 6550-00-NIB-0002—Flu Detection Kit.

NPA: San Antonio Lighthouse for the Blind, San Antonio, Texas.

Contracting Activity: Office Supplies & Paper Products Acquisition Center, New York, NY.

Product/NSN: Mailers, Audio Cassette.

NSN: 8105-01-386-2189—Mailers, Audio Cassette.

NSN: 8105-01-386-2181—Mailers, Audio Cassette.

NPA: ForSight Vision, York, Pennsylvania.

Contracting Activity: Office Supplies & Paper Products Acquisition Center, New York, NY.

Product/NSN: Remanufactured Ink Jet Cartridge.

NSN: 7510-01-443-2123—Remanufactured Ink Jet Cartridge (HP51626A).

NSN: 7510-01-443-2122—Remanufactured Ink Jet Cartridge (HP51629A).

NPA: Work Transition Services, San Bruno, California.

Contracting Activity: Office Supplies & Paper Products Acquisition Center, New York, NY.

Product/NSN: Sign Kit, Contaminate.

NSN: 9905-01-363-0875—Sign Kit, Contaminate.

NSN: 9905-01-363-0873—Sign Kit, Contaminate.

NSN: 9905-01-363-0872—Sign Kit, Contaminate.

NSN: 9905-01-363-0877—Sign Kit, Contaminate.

NSN: 9905-01-363-0876—Sign Kit, Contaminate.

NPA: Georgia Industries for the Blind, Bainbridge, Georgia.

Contracting Activity: Department of the Navy.

Service

Service Type/Location: Custodial & Grounds Maintenance, Federal Building, U.S. Post Office and Courthouse, 600 East First Street, Rome, Georgia.

NPA: Bobby Dodd Institute, Inc., Atlanta, Georgia.

Contracting Activity: GSA, Property Management Center (4PMB), Atlanta, GA.

Sheryl D. Kennerly,
Director, Information Management.

[FR Doc. E6-5077 Filed 4-6-06; 8:45 am]

BILLING CODE 6353-01-P